DEPARTMENT OF ENERGY

Federal Energy Regulatory Commission

[Docket No. RP00-457-000]

Black Marlin Pipe Line Company; Notice of Proposed Changes in FERC Gas Tariff

August 16, 2000.

Take notice that on August 11, 2000, Black Marlin Pipe Line Company (BMPL) tendered for filing to become part of its FERC Gas Tariff, First Revised Volume No. 1, the following tariff sheets, with an effective date of September 11, 2000:

Title Page

Second Revised Sheet No. 1

Second Revised Sheet No. 2

First Revised Sheet No. 3A

First Revised Sheet No. 102

Second Revised Sheet No. 127

Second Revised Sheet No. 209A

Second Revised Sheet No. 210

Third Revised Sheet No. 213B

First Revised Sheet No. 219

Second Revised Sheet No. 220

Fourth Revised Sheet No. 221

First Revised Sheet No. 305

First Revised Sheet No. 312

First Revised Sheet No. 317

First Revised Sheet No. 318

First Revised Sheet No. 325

BMPL states that on March 1, 1999 the Blue Dolphin Energy Company assumed ownership of BMPL's offshore system. The BMPL onshore system, a section 311 facility consisting of 39 miles of pipe extending from Bryan County, Oklahoma to Lamar County, Texas, was not included in the sale to Blue Dolphin Energy Company. In the instant filing, BMPL is making tariff revisions reflecting the change in ownership including removing references to the BMPL's former onshore facilities, and updating addresses and phone numbers. Additionally, BMPL is making certain other minor corrections to its tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21295 Filed 8-21-00; 8:45 am]

BILLING CODE 6717-01-M